DEPARTMENT OF COMMERCE

National Oceanic and Atmospheric Administration

RIN 0648-XH049

South Atlantic Fishery Management Council; Public Meeting

AGENCY: National Marine Fisheries Service (NMFS), National Oceanic and Atmospheric Administration (NOAA), Commerce.

ACTION: Notice of a public meeting.

SUMMARY: The South Atlantic Fishery Management Council will hold a South Atlantic Ecopath Model development coordination meeting.

DATES: The model development coordination meeting will take place July 24, 2019, from 1:30 p.m. to 4:30 p.m., and July 25, 2019, from 9 a.m. to 4 p.m.

ADDRESSES:

Meeting address: The meetings will be held at Florida Fish and Wildlife Research Institute (FWRI), Florida Fish and Wildlife Conservation Commission, 100 8th Ave. SE, St. Petersburg, FL 33701.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The model coordination meeting is open to the public. Additional information including meeting materials will be posted to the Council's website at: http://safmc.net/safmc-meetings/ as it becomes available.

The group will: Develop recommendations on collection of diet information for the Ecopath with Ecosim (EwE) model for the South Atlantic Region to provide priority research need recommendations for fishery programs supporting EwE refinement; and prioritize mapping needs and spatial layers that would support development/refinement of Ecospace for the SA EwE model.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: May 31, 2019.
Rey Israel Marquez,
Acting Deputy Director, Office of Sustainable Fisheries, National Marine Fisheries Service.

[FR Doc. 2019-11736 Filed 6-4-19; 8:45 am]

BILLING CODE 3510-22-P